NATIONAL MEDIATION BOARD

29 CFR Part 1206

[Docket No. C-7198]

RIN 3140-AA01

Representation Procedures and Rulemaking Authority

AGENCY: National Mediation Board.

ACTION: Proposed rule; notice of public hearing.

SUMMARY: The National Mediation Board (NMB or Board) extends an invitation to interested parties to attend an open public hearing with the Board and its staff on March 28, 2019. The hearing will be held in Training Rooms 2 & 3 located on the 1st Floor of the Pension Benefit Guaranty Corporation, 1200 K Street NW, Washington, DC 20005. During the hearing, the NMB invites interested persons to share their views on the proposed rules changes related to the decertification of representatives.

DATES: The hearing will be held on Thursday, March 28, 2019 from 10 a.m. to 4 p.m. Due to time and seating considerations, individuals desiring to attend the hearing, or to make a presentation before the Board, must notify the NMB staff, no later than 4 p.m. EDT on Friday, March 22, 2019.

ADDRESSES: The hearing will be held in the Training Rooms 2 & 3 located on the 1st Floor of the Pension Benefit Guaranty Corporation, 1200 K Street NW, Washington, DC 20005. Requests to attend the hearing must be addressed to Mary Johnson, General Counsel, National Mediation Board, 1301 K Street NW, Suite 250-East, Washington, DC 20005. Written requests may also be made electronically to legal@nmb.gov. All communications must include Docket No. C-7198.

FOR FURTHER INFORMATION CONTACT: Mary Johnson, General Counsel, National Mediation Board, 202-692-5050, legal@nmb.gov.

SUPPLEMENTARY INFORMATION: The National Mediation Board will hold an open public hearing on Thursday, March 28, 2019, from 10 a.m. until 4 p.m. The purpose of the hearing will be to solicit views of interested persons concerning proposed rule changes. On Thursday, January 31, 2019, the NMB issued a Notice of Proposed Rulemaking (NPRM) (84 FR 612), proposing to amend its rules in relation to decertifying representatives. These rule changes are proposed to be codified at 29 CFR part 1206. In addition to the comment procedure outlined in the NPRM, the NMB is providing another opportunity for interested persons to provide their views to the Board on this important matter.

Individuals desiring to attend the hearing must notify the NMB staff, in writing, at the above listed physical or email address no later than 4p.m. EDT on March 22, 2019. If the individual desires to make a presentation to the Board at the hearing, he or she is required to submit a brief outline of the presentation when making the request. In addition, a full written statement must be submitted no later than 4 p.m. on Friday, March 22, 2019. In lieu of making an oral presentation, individuals may submit a written statement for the record.

To attend the hearing, all potential attendees must include in their request: (1) Their full name and (2) organizational affiliation (if any). Attendees are reminded to bring a photo identification card with them to the public hearing in order to gain admittance to the building. Due to the time and potential space limitations in the hearing room, the NMB will notify individuals of their attendance and/or speaking status (i.e., preliminary time for their presentation) prior to the hearing. Individuals should be prepared to summarize their written statements at the hearing.

Agenda: The hearing will be limited to issues related to the NMB's proposed rule changes appearing in the Federal Register on January 31, 2019 at 84 FR 612.

Dated: February 26, 2019.
Mary Johnson,
General Counsel, National Mediation Board.

[FR Doc. 2019-03710 Filed 2-28-19; 8:45 am]

BILLING CODE 7550-01-P